DEPARTMENT OF COMMERCE

National Oceanic and Atmospheric Administration

RIN: 0648-XI20

Mid-Atlantic Fishery Management Council; Public Hearings

AGENCY: National Marine Fisheries Service (NMFS), National Oceanic and Atmospheric Administration (NOAA), Commerce.

ACTION: Notice of public hearings.

SUMMARY: The Mid-Atlantic Fishery Management Council will hold public hearings to allow for input on Amendment 10 to the Fishery Management Plan for the Atlantic Mackerel, Squid, and Butterfish Fishery (FMP).

DATES: Written comments will be accepted until 23 June 2008. See SUPPLEMENTARY INFORMATION for dates, times and location of hearings.

ADDRESSES: Send comments to: Daniel T. Furlong, Executive Director of the Mid-Atlantic Fishery Management Council, Suite 2115 Federal Building, 300 South New Street, Dover, DE 19904.

FOR FURTHER INFORMATION CONTACT: Daniel T. Furlong, Executive Director of the Mid-Atlantic Fishery Management Council, Room 2115 Federal Building, 300 South New Street, Dover, DE 19904; telephone: (302) 674-2331.

SUPPLEMENTARY INFORMATION: There are four proposed management actions in this Amendment. To reduce general discards and to allow the butterfish stock to rebuild to BMSY and protect the long-term health and stability of the rebuilt butterfish stock, the proposed management actions could:

1. Develop a butterfish mortality cap program for the Loligo fishery;

2. Increase the Loligo minimum codend mesh size;

3. Eliminate exemptions for Illex vessels from Loligo minimum codend mesh requirements; and

4. Establish seasonal gear restricted areas (GRAs).

Public hearings: The scheduled public hearings are as follows:

June 9 - Sheraton Convention Center Hotel, Two Miss America Way, Atlantic City, NJ 08401; telephone: (609) 344-3535;

June 17 - Hilton Garden Inn, Providence Airport Warwick, 1 Thurber Street/Jefferson Boulevard, Warwick, RI 02886; telephone: (401) 734-9600; and

June 18 - Holiday Inn Express Hotel & Suites East End, 1707 Old Country Road, Route 58, Riverhead, NY 11901; telephone: (631) 548-1000.

All hearings begin at 7 p.m. and will be tape recorded with the tapes filed as the official transcript of the hearing.

Although non-emergency issues not contained in this agenda may come before this group for discussion, those issues may not be the subject of formal action during these hearings. Action will be restricted to those issues specifically identified in this notice and any issues arising after publication of this notice that require emergency action under section 305(c) of the Magnuson-Stevens Fishery Conservation and Management Act, provided the public has been notified of the Council's intent to take final action to address the emergency.

Special Accommodations

These hearings are physically accessible to people with disabilities. Requests for sign language interpretation or other auxiliary aids should be directed to M. Jan Bryan at the Council office, (302) 674-2331 extension 18, at least 5 days prior to the hearing date.

Dated: May 27, 2008.
Tracey L. Thompson,
Acting Director, Office of Sustainable Fisheries, National Marine Fisheries Service.

[FR Doc. E8-12094 Filed 5-29-08; 8:45 am]

BILLING CODE 3510-22-S